DEPARTMENT OF LABOR

Office of the Secretary

Submission for OMB Review; Comment Request

November 16, 2001.

The Department of Labor (DOL) has submitted the following public information collection requests (ICRs) to the Office of Management and Budget (OMB) for review and approval in accordance with the Paperwork Reduction Act of 1995 (Pub. L. 104-13, 44 U.S.C. chapter 35). A copy of each individual ICR, with applicable supporting documentation, may be obtained by calling the Department of Labor. To obtain documentation contact Marlene Howze at ((202) 693-4158 or E-mail Howze-Marlene@dol.gov.

Comments should be sent to Office of Information and Regulatory Affairs, Attn: OMB Desk Officer for BLS, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Bureau of Labor Statistics (BLS).

Title: Report on Employment, Payroll, and Hours.

OMB Number: 1220-0011.

Affected Public: Business or other for-profit; Not-for-profit institutions; Federal Government; and State, Local or Tribal Government.

Number of Respondents: 373,500.

Number of Annual Responses: 4,482,000.

Estimated Time Per Response and Total Burden Hours:

Current Design Reporting Burden
Form | Number of respondents | Frequency | Annual responses | Estimated response time | Annual burden hours
BLS-790 A—Mining | 2,000 | 12 | 24,000 | 7 | 2,800
BLS-790 B—Construction | 19,700 | 12 | 236,400 | 7 | 27,580
BLS-790 BM—Interstate Construction | 400 | 12 | 4,800 | 15 | 1,200
BLS-790 C—Manufacturing | 32,700 | 12 | 392,400 | 7 | 45,780
BLS-790 H—T.P.U. | 18,000 | 12 | 216,000 | 7 | 25,200
BLS-790 H—Wholesale Trade | 19,800 | 12 | 237,600 | 7 | 27,720
BLS-790 E—Retail Trade | 69,000 | 12 | 828,000 | 7 | 96,600
BLS-790 H—Fire | 25,900 | 12 | 310,800 | 7 | 36,260
BLS-790 H—Services, non-education | 74,300 | 12 | 891,600 | 7 | 104,020
BLS-790 S—Services, education | 300 | 12 | 3,600 | 7 | 420
BLS-790 G—Federal Government | 10,300 | 12 | 123,600 | 5 | 10,300
BLS-790 G—State Gov., non-education | 7,200 | 12 | 86,400 | 5 | 7,200
BLS-790 GS—State Gov., education | 1,000 | 12 | 12,000 | 5 | 1,000
BLS-790 G—Local Government | 12,100 | 12 | 145,200 | 5 | 12,100
BLS-790 GS—Local Gov., education | 7,800 | 12 | 93,600 | 5 | 7,800
BLS-790 F1, F2, F3 * | 18,800 | 12 | 225,600 | 7 | 26,320
Total | 319,300 |  | 3,831,600 |  | 432,300

Probability Design Reporting Burden
Form | Number of respondents | Frequency | Annual responses | Estimated response time | Annual burden hours
BLS-790 A—Mining | 1,600 | 12 | 19,200 | 7 | 2,240
BLS-790 B—Construction | 14,100 | 12 | 169,200 | 7 | 19,740
BLS-790 BM—Interstate Construction | 0 | 12 | 0 | 15 | 0
BLS-790 C—Manufacturing | 24,800 | 12 | 297,600 | 7 | 34,720
BLS-790 H—T.P.U. | 0 | 12 | 0 | 7 | 0
BLS-790 H—Wholesale Trade | 11,000 | 12 | 132,000 | 7 | 15,400
BLS-790 E—Retail Trade | 0 | 12 | 0 | 7 | 0
BLS-790 H—Fire | 0 | 12 | 0 | 7 | 0
BLS-790 H—Services, non-education | 0 | 12 | 0 | 7 | 0
BLS-790 S—Services, education | 0 | 12 | 0 | 7 | 0
BLS-790 G—Federal Government | 0 | 12 | 0 | 5 | 0
BLS-790 G—State Gov., non-education | 0 | 12 | 0 | 5 | 0
BLS-790 GS—State Gov., education | 0 | 12 | 0 | 5 | 0
BLS-790 G—Local Government | 0 | 12 | 0 | 5 | 0
BLS-790 GS—Local Gov., education | 0 | 12 | 0 | 5 | 0
BLS-790 F1, F2, F3 * | 2,700 | 12 | 32,400 | 7 | 3,780
Total | 54,200 |  | 650,400 |  | 78,880

Total Annualized Capital/Startup Costs: $0.

Total Annual Costs (operating/maintaining systems or purchasing services): $0.

Description: The Current Employment Statistics (CES) program provides current monthly statistics on employment, hours, and earnings, by industry. The estimates produced from the data collected on the BLS-790 forms are fundamental inputs in the economic decision process at all levels of government, private enterprise, and organized labor.

The CES program is currently undergoing a sample redesign to transition from a quota-based to a probability sample. As industries are converted to the probability design, the number of establishments collected for the current design will be reduced.

Ira L. Mills,
DOL Clearance Officer.

[FR Doc. 01-29990 Filed 12-3-01; 8:45 am]

BILLING CODE 4510-24-M